NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by April 25, 2003. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), has developed regulations that implement the “Agreed Measures for the Conservation of Antarctic Fauna and Flora” for all United States citizens. The Agreed Measures, developed by the Antarctic Treaty Consultative Parties, recommended establishment of a permit system for various activities in Antarctica and designation of certain animals and certain geographic areas as requiring special protection. The regulations establish such a permit system to designate Specially Protected Areas and Sites of Special Scientific Interest.

The applications received are as follows:

1. Applicant

[Permit Application No. 2004-001]

Werner Stamback, Environmental Officer, Quark Expeditions, Inc., 980 Post Road, Darien, CT 06820.

Activity for Which Permit is Requested

Enter Antarctic Specially Protected Areas. The applicant proposes to conduct educational visits for passengers, staff and crew of the icebreaker, Kapitan Khlebnikov, to the following areas in the Ross Sea and McMurdo Sound region of Antarctica: Cape Hallett, Victoria Land (ASPA #106); Cape Evans Historic Site (ASPA #154); Hut and associated artifacts, Backdoor Bay, Cape Royds, Ross Island (ASPA #156); Discovery Hut, Hut Point, Ross Island (ASPA #157); and, Huts and associated artifacts, Cape Adare (ASPA #158). Visits will be conducted in accordance with the relevant Management Plans for each site. Access to the sites may be by zodiac or helicopter as appropriate.

Location

ASPA #106—Cape Hallett, Victoria Land

ASPA #154—Cape Evans Historic Site

ASPA #156—Hut and associated artifacts, Backdoor Bay, Cape Royds, Ross Island

ASPA #157—Discovery Hut, Hut Point, Ross Island

ASPA #158—Huts and associated artifacts, Cape Adare.

Dates

March 15, 2003 to March 15, 2007.

Nadene G. Kennedy,
Permit Officer, Office of Polar Programs.

[FR Doc. 03-7266 Filed 3-25-03; 8:45 am]

BILLING CODE 7555-01-M